DEPARTMENT OF HEALTH AND HUMAN SERVICES

Administration for Children and Families

Proposed Information Collection Activity; Tribal Child Support Enforcement Annual Data Report (OMB #0970-0320)

AGENCY: Office of Child Support Enforcement, Administration for Children and Families, HHS.

ACTION: Request for public comment.

SUMMARY: The Office of Child Support Enforcement (OCSE), Administration for Children and Families (ACF), U.S. Department of Health and Human Services (HHS), is requesting a 3-year extension of the form OCSE-75—Tribal Child Support Enforcement Annual Data Report (OMB #0970-0320, expiration 01/31/2023). We are requesting changes to this form.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The data collected by form OCSE-75 are used to prepare the OCSE preliminary and annual data reports. In addition, tribes administering child support enforcement programs under Title IV-D of the Social Security Act are required to report program status and accomplishments in an annual narrative report as part of the OCSE-75 report and submit it annually. Changes made to the report were agreed to based on several workgroup meetings attended by both OCSE and tribal child support directors. These changes include clarifying data points and definitions.

Respondents: Tribal Child Support Enforcement Organizations or the Department/Agency/Bureau responsible for child support enforcement in each tribe.

Annual Burden Estimates

Due to the timing required to make system updates to incorporate proposed changes, the current form will be used for fiscal year (FY) 2022 reporting, and the revised form will be implemented beginning FY 2023 reporting.

Instrument | Total number of respondents | Total number of responses per respondent (over 3 years) | Average burden hours per response | Total burden hours | Annual burden hours
OCSE-75 for FY 2022 | 60 | 1 | 40 | 2,400 | 2,400
OCSE-75 for FY 2023 and forward | 61 | 2 | 40 | 4,880 | 2,440

Average Annual Burden Hours: 2,427

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Title IV-D of the Social Security Act as required by 45 CFR 309.170(b).

Mary B. Jones,
ACF/OPRE Certifying Officer.

[FR Doc. 2021-26323 Filed 12-3-21; 8:45 am]

BILLING CODE 4184-41-P